FEDERAL COMMUNICATIONS COMMISSION

47 CFR Part 64

[CG Docket No. 22-2, GN Docket No. 25-133; FCC 25-74; FR ID 319500]

Empowering Broadband Consumers Through Transparency; Delete, Delete, Delete

AGENCY: Federal Communications Commission.

ACTION: Proposed rule.

SUMMARY: In this document, the Commission seeks comment on several changes to the broadband label rules. Specifically, the Commission proposes to eliminate requirements that providers: (1) read the label to consumers over the phone; (2) itemize state and local passthrough fees that vary by location; (3) provide information about the now-concluded Affordable Connectivity Program (ACP); (4) display labels in customer account portals; (5) make labels available in machine readable format; and (6) archive labels for at least two years after a service is no longer offered to new customers. The Commission also seeks comment on streamlining and eliminating any other label requirement, such as the multilingual display requirement, that may be unduly burdensome and costly. The Commission also proposes to end our inquiry into new requirements that would take the labels out of alignment with the authorizing statute.

DATES: Comments are due on or before January 2, 2026 and reply comments are due on or before February 2, 2026.

ADDRESSES: You may submit comments, identified by CG Docket No. 22-2 and GN Docket No. 25-133, by any of the following methods:

• Electronic Filers: Comments may be filed electronically using the internet by accessing the ECFS: http://apps.fcc.gov/ecfs/.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial courier deliveries (other than U.S. Postal Service Express Mail and Priority Mail) must be sent to 9050 Junction Drive, Annapolis Junction, MD 20701.

• Filings sent by U.S. Postal Service First-Class Mail, Priority Mail, and Priority Mail Express must be sent to 45 L Street NE, Washington, DC 20554.

• People with Disabilities. To request materials in accessible formats for people with disabilities (Braille, large print, electronic files, audio format), send an email to fcc504@fcc.gov or call the Consumer & Governmental Affairs Bureau at 202-418-0530 (voice), 202-418-0432 (TTY).

FOR FURTHER INFORMATION CONTACT: Michelle Branigan of the Consumer Policy Division, Consumer and Governmental Affairs Bureau, at michelle.branigan@fcc.gov, 202-418-1345.

SUPPLEMENTARY INFORMATION: This is a summary of the Commission's Second Further Notice of Proposed Rulemaking (Second NPRM), in CG Docket No. 22-2 and GN Docket No. 25-133; FCC 25-74, adopted on October 28, 2025 and released on November 3, 2025. The full text of document FCC 25-74 is available online at https://www.fcc.gov/document/fcc-proposes-simplify-broadband-labels-consumers. To request this document in accessible formats for people with disabilities (e.g., Braille, large print, electronic files, audio format) or to request reasonable accommodations (e.g., accessible format documents, sign language interpreters, CART), send an email to fcc504@fcc.gov or call the FCC's Consumer and Governmental Affairs Bureau at 202-418-0530 (voice).

Initial Regulatory Flexibility Act: The Commission has prepared an Initial Regulatory Flexibility Analysis (IRFA) concerning the potential impact of rule and policy change proposals on small entities in the Notice. The Commission invites the general public, in particular small businesses, to comment on the IRFA. Comments must be filed by the deadlines for comments on the FNPRM indicated on the first page of this document and must have a separate and distinct heading designating them as responses to the IRFA.

Paperwork Reduction Act of 1995: This document may contain proposed new and revised information collection requirements. The Commission, as part of its continuing effort to reduce paperwork burdens, invites the general public and the Office of Management and Budget (OMB) to comment on the information collection requirements described in this document, as required by the Paperwork Reduction Act of 1995, Public Law 104-13. In addition, pursuant to the Small Business Paperwork Relief Act of 2002, Public Law 107-198, see 44 U.S.C. 3506(c)(4), we seek specific comment on how we might further reduce the information collection burden for small business concerns with fewer than 25 employees.

Providing Accountability Through Transparency Act: The Providing Accountability Through Transparency Act, Public Law 118-9, requires each agency, in providing notice of a rulemaking, to post online a brief plain language summary of the proposed rule. The required summary of this Second Further Notice of Proposed Rule Making is available at https://www.fcc.gov/ proposed-rulemakings. To request materials in accessible formats for people with disabilities (e.g. Braille, large print, electronic files, audio format), send an email to fcc504@fcc.gov or call the Consumer & Governmental Affairs Bureau at 202-418-0530.

Ex Parte Rules: The proceeding the Second FNPRM initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) of the Commission's rules or for which the Commission has made available a method of electronic filing, written ex parte presentations and memoranda summarizing oral ex parte presentations, and all attachments thereto, must, when feasible, be filed through the electronic comment filing system available for that proceeding, and must be filed in their native format (e.g., .doc, .xml, .ppt, searchable .pdf). Participants in this proceeding should familiarize themselves with the Commission's ex parte rules.

Synopsis

1. In this document, the Commission seeks comment on proposals to eliminate certain broadband label requirements that may impose unnecessary costs and burdens on providers without improving the utility of the broadband label for consumers. Specifically, the Commission proposes to eliminate requirements that providers: (1) read the label to consumers over the phone; (2) itemize state and local passthrough fees that vary by location; (3) provide information about the now-concluded Affordable Connectivity Program (ACP); (4) display labels in customer account portals; (5) make labels available in machine readable format; and (6) archive labels for at least two years after a service is no longer offered to new customers. We also seek comment on streamlining and eliminating any other label requirement, such as the multilingual display requirement, that may be unduly burdensome and costly. We also propose to end our inquiry into new requirements that would take the labels out of alignment with the authorizing statute.

2. The Commission believes that these proposals are consistent with Congress's intent in the Infrastructure Investment and Jobs Act, Public Law 117-58, 135 Stat. 429, section 60504(a) (2021) (Infrastructure Act), when it directed the Commission to “require the display of broadband consumer labels.” The remaining broadband label requirements fulfill the Infrastructure Act's goals of preserving consumer access to clear, easy-to-understand, and accurate information about the cost for broadband services, empowering consumers to choose services that best meet their needs and match their budgets, and ensuring that they are informed about a service plan's offerings.

3. The Commission's experience with the broadband labels since their rollout suggests that there is room to refine the requirements to better align with Congressional intent in the Infrastructure Act and reduce compliance burden while retaining their value for consumers. The proposals in the document also reflect industry and consumer feedback based on experience with the labels and several comments submitted in response to the Delete, Delete, Delete Public Notice.

4. Alternate Sales Channels. The Commission proposes to remove the requirement that providers read labels to customers that shop for broadband service by phone. The rules define “point of sale” to include websites and any other channel through which the service is sold, including retail locations and over the phone. The Commission believes that, because the label is fundamentally a visual medium of conveying broadband service information, its format does not easily lend itself to presentation in a telephone conversation. The document proposes to exclude telephone calls from the definition of “point of sale.” The Commission seeks comment on this proposal. Is it correct that the requirement is burdensome and does not help consumers? Does the proposal to exclude telephone calls from “point of sale” resolve the problem, without creating additional concerns? Are there other alternate sales channels that also should be excluded from the definition of “point of sale”? For example, should the Commission limit “point of sale” to the provider's website and retail locations? Would the proposal to remove the requirement that providers offer the labels over the phone lessen the burden on providers and reduce potential confusion for consumers? Section 8.1(a)(1) of Commission rules state that “The label must be prominently displayed, publicly available, and easily accessible to consumers, including consumers with disabilities. . . .” If the proposal is adopted, how can the Commission ensure providers comply with this disability-access requirement?

5. Itemized Recurring Fees that Vary by Location. The Commission proposes to eliminate the requirement that providers itemize discretionary, recurring monthly fees that represent fees related to government programs that they choose to pass through to consumers if the fees vary by consumer location. Fees that vary by location may require providers to produce multiple, and potentially multiple labels for identical services. The Commission seeks comment on whether providers should instead display on the label the aggregate amount of such fees. If the Commission adopts this proposal and allows providers to aggregate the fees, i.e., display all such fees on a single line, should we require that the amount associated with the line be the actual, precise amount of those fees? Should the Commission instead require only that it state the maximum (or “up to”) amount consumers would incur? What other factors should the Commission consider? Would this proposal incentivize providers to market broadband services differently, and, if so, how?

6. Affordable Connectivity Plan. The Commission proposes to permanently eliminate the requirement that providers include ACP information in the broadband label because that program is no longer funded by Congress and ended on June 1, 2024. The label's purpose is to provide clear, easy-to-understand, and accurate information about broadband services, and including information about a program that no longer exists would be confusing. The Commission seeks comment on this proposal.

7. Customer Account Portal. The Commission proposes to eliminate the requirement that providers display the broadband label in customers' account portals. As data and prices change, the original label could become outdated and no longer useful. The Commission states that such a requirement is not mandated by the Infrastructure Act. The Commission seeks comment on this proposal. Is it correct that displaying the label in customers' account portals may create confusion over time? Does the display of labels in customers' account portals promote transparency for consumers and is it their primary way of referencing the characteristics and terms of their service? Are there other ways that providers ensure that customers have access to the information in the broadband label?

8. Machine Readability. The Commission proposes to eliminate the requirement that providers display label information included in the label available to the public in a machine-readable format and seeks comment on this proposal. This includes the related requirement to provide the information in any label separately in a spreadsheet file format on provider websites via a dedicated uniform resource locator (URL) that contains all of their labels. This requirement was not addressed in the Infrastructure Act. The Commission is unconvinced that the machine-readability requirement is a necessary component for transparency. Machine readability might facilitate research or comparisons across many providers' plans by third parties, but appears only indirectly related to making the providers' labels helpful to consumers who are shopping for broadband service. Is there evidence the requirement has benefited consumers or will benefit consumers in the future? Are there third-party shopping comparison tools for broadband internet access services that use the machine-readable spreadsheets?

9. Archiving. The Commission proposes to eliminate the requirement that providers archive all labels for no less than two years after a service plan is no longer available to new customers and has been removed from the provider's website or alternate sales channels. Congress did not expressly require that the FCC impose an archive requirement in the Infrastructure Act. The Commission seeks comment on whether the requirement represents a burden to providers. Is there any value to the archive for consumers when the covered services are no longer offered or available? Should the FCC retain a central repository of these labels to aid enforcement?

10. Removing the Template from the CFR. The Commission seeks comment on removing the label template from the Code of Federal Regulations (CFR) and instead providing a link to a template on the Commission's website. Doing so would allow the Commission to more easily update the visual layout and other formatting elements of the template. Would the Commission need to specify in its rules that providers must include information in the label about monthly price, additional charges and terms, discounts and bundles, speeds, data, network management, privacy, and customer support? The Commission also seeks comment on any other effects of its proposal to remove the template from the CFR.

11. Updating the Template. The template in the CFR currently refers to “fcc.gov/consumer,” which does not lead consumers directly to information about the broadband labels. The Commission propose to replace the “fcc.gov/consumer” reference in the template with “fcc.gov/broadbandlabels” so that consumers are brought directly to broadband label information. The FCC seeks comment on this proposal.

12. As the implementation deadlines discussed in 47 CFR 8.1(a)(7) have already passed, the Commission proposes to remove that rule section, and seeks comment on this removal.

13. In the First Further Notice, the Commission proposed and sought comment on a number of additional label requirements. For example, the Commission sought comment on whether it should specify accessibility standards, require display of labels in non-English languages beyond those providers use for marketing, require the labels for bundled services, require display of performance using measures other than those that are “typical,” and whether labels should be interactive. The Commission intends to close its inquiry into those proposals, and thus seeks comment on whether these proposals benefit consumers, whether the benefits outweigh the costs of implementation, and whether they risk potentially confusing consumers.

14. The Commission also seeks comment on implementation issues, such as the appropriate timeline for providers to implement changes to the labels.

Federal Communications Commission.
Marlene Dortch,
Secretary.

[FR Doc. 2025-21807 Filed 12-2-25; 8:45 am]

BILLING CODE 6712-01-P